DEPARTMENT OF HEALTH AND HUMAN SERVICES

Centers for Disease Control and Prevention

Board of Scientific Counselors, National Institute for Occupational Safety and Health: Meeting

In accordance with section 10(a)(2) of the Federal Advisory Committee Act (Pub. L. 92-463), the Centers for Disease Control and Prevention (CDC) announces the following committee meeting:

Name: Board of Scientific Counselors, National Institute for Occupational Safety and Health (BSC, NIOSH).

Time and date: 9 a.m.-3:30 p.m., March 10, 2000.

Place: The Washington Court, 525 New Jersey Avenue, NW, Washington, DC 20001-1527.

Status: Open to the public, limited only by the space available. The meeting room accommodates approximately 50 people.

Purpose: The BSC, NIOSH is charged with providing advice to the Director, NIOSH on NIOSH research programs. Specifically, the Board shall provide guidance on the Institute's research activities related to developing and evaluating hypotheses, systematically documenting findings, and disseminating results.

Matters To Be Discussed: Agenda items include a report from the Director of NIOSH; Responding to Emerging Safety Hazards: Communications Towers; HIV Program Activities; Hazard Surveillance Planning; Intramural NORA Program Initiatives: Asthma, Dermal, Musculoskeletal; Division of Applied Research and Technology: The Re-Unification of Division of Biomedical and Behavioral Science and Division of Physical Sciences and Engineering; and future activities of the Board.

Agenda items are subject to change as priorities dictate.

Contact Person for More Information: Bryan D. Hardin, Executive Secretary, BSC, NIOSH, Centers for Disease Control and Prevention, 1600 Clifton Road, NE, Atlanta, Georgia 30333, telephone 404/639-3773, fax 404/639-2170, e-mail: bdh1@cdc.gov.

The Director, Management Analysis and Services Office has been delegated the authority to sign Federal Register notices pertaining to announcements of meetings and other committee management activities, for both the Centers for Disease Control and Prevention and the Agency for Toxic Substances and Disease Registry.

Dated: February 15, 2000.
Carolyn J. Russell,
Director, Management Analysis and Services Office, Centers for Disease Control and Prevention (CDC).

[FR Doc. 00-4065 Filed 2-18-00; 8:45 am]

BILLING CODE 4163-19-P